DEPARTMENT OF DEFENSE

GENERAL SERVICES ADMINISTRATION

NATIONAL AERONAUTICS AND SPACE ADMINISTRATION

[OMB Control No. 9000-0064; Docket No. 2020-0053; Sequence No. 17]

Submission for OMB Review; Organization and Direction of the Work

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding organization and direction of the work.

DATES: Submit comments on or before March 5, 2021.

ADDRESSES: Written comments and recommendations for this information collection should be sent within 30 days of publication of this notice to www.reginfo.gov/public/do/PRAMain. Find this particular information collection by selecting “Currently under Review—Open for Public Comments” or by using the search function.

Additionally, submit a copy to GSA through http://www.regulations.gov and follow the instructions on the site. This website provides the ability to type short comments directly into the comment field or attach a file for lengthier comments.

Instructions: All items submitted must cite OMB Control No. 9000-0064, Organization and Direction of the Work. Comments received generally will be posted without change to http://www.regulations.gov, including any personal and/or business confidential information provided. To confirm receipt of your comment(s), please check www.regulations.gov, approximately two-to-three days after submission to verify posting. If there are difficulties submitting comments, contact the GSA Regulatory Secretariat Division at 202-501-4755 or GSARegSec@gsa.gov.

FOR FURTHER INFORMATION CONTACT: Zenaida Delgado, Procurement Analyst, at telephone 202-969-7207, or zenaida.delgado@gsa.gov.

SUPPLEMENTARY INFORMATION:

A. OMB Control Number, Title, and Any Associated Form(s)

9000-0064, Organization and Direction of the Work.

B. Needs and Uses

This clearance covers the information that contractors must submit to comply with the following Federal Acquisition Regulation (FAR) requirement:

• 52.236-19, Organization and Direction of the Work. This clause requires contractors, under cost-reimbursement construction contracts, to submit to the contracting officer a chart showing the general executive and administrative organization, the personnel to be employed in connection with the work under the contract, and their respective duties. The contractor must keep the data furnished current by supplementing it as additional information becomes available.

The contracting officer uses the information to ensure the work is performed by qualified personnel at a reasonable cost to the Government.

C. Annual Burden

Respondents: 34.

Total Annual Responses: 34.

Total Burden Hours: 26.

D. Public Comment

A 60-day notice was published in the Federal Register at 85 FR 74723, on November 23, 2020. No comments were received.

Obtaining Copies: Requesters may obtain a copy of the information collection documents from the GSA Regulatory Secretariat Division, by calling 202-501-4755 or emailing GSARegSec@gsa.gov. Please cite OMB Control No. 9000-0064, Organization and Direction of the Work.

William F. Clark,
Director, Federal Acquisition Policy Division, Office of Governmentwide Acquisition Policy, Office of Acquisition Policy, Office of Governmentwide Policy.

[FR Doc. 2021-02242 Filed 2-2-21; 8:45 am]

BILLING CODE 6820-EP-P